DEPARTMENT OF THE INTERIOR

Bureau of Land Management

[LLNVSO0000.L16100000.DO0000.LXSS100F0000; 9-08807; TAS: 14X1109]

Notice of Intent To Prepare a Revision to the Las Vegas Resource Management Plan and Associated Environmental Impact Statement, Nevada

AGENCY: Bureau of Land Management, Interior.

ACTION: Notice of intent.

SUMMARY: In compliance with the National Environmental Policy Act of 1969, as amended, and the Federal Land Policy Management Act of 1976, as amended, the Bureau of Land Management (BLM) Southern Nevada District intends to prepare a Resource Management Plan (RMP) revision with an associated Environmental Impact Statement (EIS) for the Las Vegas RMP and by this notice is announcing the beginning of the scoping process and soliciting input on the identification of issues and the proposed planning criteria. The RMP revision will replace the existing Las Vegas RMP.

DATES: This notice initiates the public scoping process for the RMP with an associated EIS. Comments on issues may be submitted in writing until February 4, 2010. The date(s) and location(s) of any scoping meetings will be announced at least 15 days in advance through local media, newspapers and the BLM Web site at: http://www.blm.gov/nv/st/en/fo/lvfo.html. In order to be included in the Draft EIS, all comments must be received prior to the close of the scoping period or 15 days after the last public meeting, whichever is later. We will provide additional opportunities for public participation upon publication of the Draft EIS.

ADDRESSES: You may submit comments on issues and planning criteria related to the Las Vegas RMP/EIS Revision by any of the following methods:

• Web site: http://www.blm.gov/nv/st/en/fo/lvfo.html.

• E-mail: Carolyn_Ronning@blm.gov.

• Fax: (702) 515-5023.

• Mail: Bureau of Land Management, 4701 North Torrey Pines Drive, Las Vegas, Nevada 89130-2301.

Documents pertinent to this proposal may be examined at the Southern Nevada District Office.

FOR FURTHER INFORMATION CONTACT: For further information and/or to have your name added to the mailing list, contact Carrie Ronning, Telephone (702) 515-5143 or by e-mail Carolyn_Ronning@blm.gov.

SUPPLEMENTARY INFORMATION: This document provides notice that the BLM Field Office, Las Vegas, Nevada intends to prepare a RMP with an associated EIS for the Las Vegas Office and part of the Pahrump Field Office. The document also announces the beginning of the scoping process and the opportunity for public input on issues and planning criteria. The planning area is located in Nye and Clark counties and encompasses approximately 3.1 million acres of public land. The purpose of the public scoping process is to determine relevant issues that will influence the scope of the environmental analysis, including alternatives, and guide the planning process. Preliminary issues for the planning area have been identified by BLM personnel, other State and Federal agencies, and other stakeholders. The issues include renewable energy development for geothermal, wind, and solar power; management of site type rights-of-way for renewable energy and other uses; visual resource management; land tenure adjustments to meet community growth needs; management of split-estate lands; evaluation of existing and potential new Areas of Critical Environmental Concern; Wild and Scenic River designation for the Virgin River; Off-Highway Vehicle Designations and Special Recreation Management Areas; and fluid minerals management stipulations to protect sensitive resources. The preliminary planning criteria include the items discussed below.

(1) The planning area is defined as the area covered by the existing Las Vegas RMP. The plan revision will make planning determinations for public lands within the defined planning area boundary.

(2) The plan revision effort will rely on available inventories of the lands and resources as well as data gathered during the planning process, which will include an updated wilderness characteristics inventory, to reach sound management decisions. Any decisions requiring additional inventories will be deferred until such time as the inventories can be conducted.

(3) Use and protection of water, water resources, riparian zones, and other related values will be given a high priority.

(4) Geographic Information Systems and corporate geospatial data will be used to the extent practicable.

(5) The plan revision will be consistent to the maximum extent possible with the plans and management programs of local government, consistent with state and Federal laws and regulations and coordinated with other Federal agencies where appropriate.

(6) The principles of multiple use and sustained yield will be followed.

(7) The planning process will involve consultation with Native American Tribal governments.

(8) The RMP revision will acknowledge valid existing rights established under the current Las Vegas RMP.

(9) Federal Geographic Data Committee standards and other applicable BLM data standards will be followed.

(10) Opportunities for public involvement will be encouraged throughout the RMP process.

(11) Findings and tentative classification of waterways as eligible for inclusion in the National Wild and Scenic River System will follow the criteria contained in 43 CFR 8351.

(12) The impacts of various proposed land uses on land with wilderness characteristics will be analyzed as part of the RMP process.

(13) Environmental protection and energy production are desirable and necessary objectives and will not be considered mutually exclusive priorities.

You may submit comments on issues and planning criteria in writing to the BLM at any public scoping meeting, or you may submit them to the BLM using one of the methods listed in the ADDRESSES section above. To be most helpful, you should submit comments within 60 days of the last public meeting. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan and will place them into one of three categories. These categories are:

(1) Issues to be resolved in the plan;

(2) Issues to be resolved through policy or administrative action; or

(3) Issues beyond the scope of this plan.

The BLM will provide an explanation in the plan as to why it placed an issue in category two or three. The public is also encouraged to help identify any management questions and concerns that should be addressed in the plan.

The BLM will use an interdisciplinary approach to develop the plan and to consider the variety of resource issues and concerns identified. Specialists with expertise in the following disciplines will be involved in the planning process: renewable energy, lands and realty, minerals management, outdoor recreation, air resources, visual resources, vegetation, cultural resources, paleontology, botany, special status species, wildlife and fisheries, hydrology, sociology and economics.

Authority: 40 CFR 1501.7 and 43 CFR 1610.2.

Ron Wenker,
Nevada State Director.

[FR Doc. E9-31251 Filed 1-4-10; 8:45 am]

BILLING CODE 4310-HC-P